DEPARTMENT OF AGRICULTURE

Forest Service

Southwestern Region, Arizona, Apache-Sitgreaves, Coconino, Kaibab, Prescott, and Tonto National Forests; Amendment to National Forest Land and Resource Management Plans To Determine How and If Cross-Country Travel by Off Highway Vehicles (OHVs) Should Be Allowed

AGENCY: Forest Service, USDA.

ACTION: Withdrawal of Notice of Intent to prepare an environmental impact statement.

SUMMARY: The Apache-Sitgreaves, Coconino, Kaibab, Prescott, and Tonto National Forest have been preparing an environmental impact statement to address cross-country travel by motorized vehicles and how to standardize road and trail signing conventions for OHVs. The original Notice of Intent published in Federal Register Volume 66, No. 61, Thursday, March 29, 2001. A revised Notice of Intent published in Federal Register Volume 67, No. 30 on Wednesday, February 13, 2002, and the Notice of Availability of DEIS published in Federal Register Volume 68, No. 85 on Friday, May 2, 2003. The need for this document has been mooted by the Final Travel Management Rule; Designated Routes and Areas for Motor Vehicle Use that revised portions of 36 CFR parts 212, 251, 261 and 295. The Final Rule was posted in the Federal Register on November 9, 2005.

ADDRESSES: For information, contact: Charles F. Ernst, Kaibab National Forest, 800 South Sixth Street, Williams, Arizona 86046.

FOR FURTHER INFORMATION CONTACT: Charles F. Ernst (928) 635-8317; cfernst@fs.fed.us

Dated: July 7, 2006.
Michael R. Williams,
Forest Supervisor, Kaibab National Forest.

[FR Doc. 06-6493 Filed 7-26-06; 8:45 am]

BILLING CODE 3410-11-M